DEPARTMENT OF COMMERCE

National Oceanic and Atmospheric Administration

RIN 0648-XD953

Marine Mammals; File No. 19108; Correction

AGENCY: National Marine Fisheries Service (NMFS), National Oceanic and Atmospheric Administration (NOAA), Commerce.

ACTION: Notice; receipt of application; correction.

SUMMARY: On May 27 2015, a notice was published in the Federal Register announcing that Daniel P. Costa, Ph.D., University of California at Santa Cruz, Long Marine Laboratory, 100 Shaffer Road, Santa Cruz, CA 95064, had applied in due form for a permit to conduct research on northern elephant seals (Mirounga angustirostris) throughout their range. That notice contained an error.

FOR FURTHER INFORMATION CONTACT: Amy Sloan or Brendan Hurley, (301) 427-8401.

SUPPLEMENTARY INFORMATION: The notice for File No. 19108 on May 27, 2015 (80 FR 30212) indicated that incidental harassment of northern fur seals (Callorhinus ursinus) is requested. This was an error; the notice should indicate incidental harassment of harbor seals (Phoca vitulina) is requested, not northern fur seals. All other information in the notice is unchanged.

Dated: June 4, 2015.
Julia Harrison,
Chief, Permits and Conservation Division, Office of Protected Resources, National Marine Fisheries Service.

[FR Doc. 2015-14141 Filed 6-9-15; 8:45 am]

BILLING CODE 3510-22-P